DEPARTMENT OF HOUSING AND URBAN DEVELOPMENT

[Docket No. FR-5193-N-01]

Notice of Proposed Information Collection: Comment Request on the Alternative Housing Pilot Program Evaluation Baseline Survey

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comments Due Date: March 17, 2008.

ADDRESSES: Interested persons are invited to submit comments regarding this proposal. Comments should refer to the proposal by name and/or OMB Control Number and should be sent to: Reports Liaison Officer, Office of Policy Development and Research, Department of Housing and Urban Development, 451 Seventh Street, SW., Room 8234, Washington, DC 20410.

FOR FURTHER INFORMATION CONTACT: Todd Richardson, Office of Policy Development and Research, Department of Housing and Urban Development, 451 Seventh Street, SW., Washington, DC 20410; telephone 202-402-5706 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Alternative Housing Pilot Program Evaluation Baseline Survey.

OMB Control Number, If applicable: 2528-0248.

Description of the Need for the Information and Proposed Use: The proposed information collection will collect baseline data from families before they received housing under FEMA's Alternative Housing Pilot Program. HUD is conducting an evaluation of AHPP. Four states affected by Hurricanes Katrina and Rita received AHPP grants to test out alternative approaches to providing temporary housing after a disaster. HUD is charged with measuring what benefits and costs are associated with each of the alternatives being implemented by the states. Measuring the program impact on health, satisfaction, and general well-being of the occupants are a key part of the evaluation. This baseline survey is needed to know the characteristics of eligible households applying to participate in the program.

Agency Form Numbers, if Applicable: None.

Members of Affected Public: Individuals and Households.

Estimation of the Total Number of Hours Needed to Prepare the Information Collection Including Number of Respondents, Frequency of Response, and Hours of Response:

Frequency of Submission: On occasion.

| Number of respondents | Annual responses | × | Hours per response | = | Burden hours
Reporting Burden | 10,000 | 1 |  | .4167 |  | 4167

Total Estimated Burden Hours: 4167.

Status of the Proposed Information Collection: Extension of a currently approved collection.

Authority: Section 3506 of the Paperwork Reduction Act of 1995, 44 U.S.C. Chapter 35, as amended.

Dated: January 11, 2008.
Darlene F. Williams,
Assistant Secretary for Policy Development and Research.

[FR Doc. E8-660 Filed 1-15-08; 8:45 am]

BILLING CODE 4210-67-P